DEPARTMENT OF TRANSPORTATION

Federal Railroad Administration

[Docket Number FRA-2017-0101]

Petition for Modification of Single Car Air Brake Test Procedures

Under part 232 of Title 49 Code of Federal Regulations (CFR), this provides the public notice that on September 21, 2017, the Long Island Rail Road (LIRR) requested the Federal Railroad Administration (FRA) grant a modification of the single car air brake test procedures as prescribed in 49 CFR 232.305(a). FRA assigned the request Docket Number FRA-2017-0101.

As described in its request, LIRR has modified several Ml/M3 Multiple Unit passenger cars for use as Alcohol-Sandite (ALSA) cars for third rail ice removal and running rail adhesion conditioning. These cars were originally equipped with RT-5A brake equipment for Electric Multiple unit operation and D-1-A triple valve brake system (D-1-A) for use with conventional locomotives. As converted, the ALSA cars will operate exclusively with the original D-1-A system. With these modifications, the ALSA cars will fall under the definition of freight cars and will be subject to the single car brake testing requirements of 49 CFR 232.305.

Section 232.305 requires testing in accordance with the Association of American Railroads (AAR) procedure S-486-04 or a modified procedure approved by FRA pursuant to 49 CFR 232.307. The tests in AAR S-486-04 are intended for freight cars with systems significantly different from the D-1-A system used on the ALSA cars and cannot be used for testing this equipment. LIRR has developed an alternative single car brake test procedure customized to the D-1-A system for use on the ALSA cars. The procedure, specified in LIRR's posted Maintenance Instruction Letter MIL-2097-M4, closely conforms to all applicable sections of S-486-04 and LIRR asserts that it provides an equivalent level of safety. LIRR requests that it be granted special approval to use MIL-2097-M4 for single car brake testing on ALSA cars.

A copy of these documents and the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. All communications concerning these proceedings should identify the appropriate docket number (e.g., Docket Number FRA-2017-0101) and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by February 20, 2018 will be considered by FRA before final action is taken. Pursuant to 49 CFR 232.307(d), if no comment objecting to the requested modification is received during the 60-day comment period, or if FRA does not issue a written objection to the requested modification, the modification will become effective on March 6, 2018.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2017-27475 Filed 12-20-17; 8:45 am]

BILLING CODE 4910-06-P